DEPARTMENT OF ENERGY

Bonneville Power Administration

Hooper Springs Transmission Project

AGENCY: Bonneville Power Administration (BPA), Department of Energy (DOE).

ACTION: Notice of availability of Record of Decision (ROD).

SUMMARY: This notice announces the availability of the ROD to implement the Hooper Springs Transmission Project in Caribou County, Idaho. BPA has decided to implement the South Alternative's Option 3A (Option 3A) identified in the Hooper Springs Transmission Project Final Environmental Impact Statement (DOE/EIS-0451, January 2015). Option 3A consists of: (1) A new 138/115-kilovolt (kV) Hooper Springs Substation located near the city of Soda Springs, Idaho; (2) a new, approximately 24-mile-long, double-circuit 115-kV transmission line extending generally north then east from the Hooper Springs Substation to a new BPA connection facility that will connect the new line to Lower Valley Energy's (LVE) existing transmission system in northeastern Caribou County; (3) a new, approximately 0.2-mile-long, single-circuit 138-kV transmission line extending generally south from the Hooper Springs Substation to PacifiCorp's existing Threemile Knoll Substation to connect the new line to the regional transmission grid; and (4) required ancillary facilities such as access roads.

The new Hooper Springs Substation will be constructed as a 138/115-kV substation, meaning that it will include a transformer capable of converting 138-kV electricity to 115-kV electricity. BPA will acquire 100-foot-wide right-of-way for the length of the 115-kV line. Approximately 174 new double-circuit 115-kV steel structures, ranging in height from 55 to 120 feet with an average span length between structures of 730 feet, will be installed in this new right-of-way. The BPA connection facility will be located about two miles southeast of the intersection of Blackfoot River Road and Diamond Creek Road and will consist of overhead line disconnect switches to connect the new 115-kV line to the existing LVE line. For the single-circuit 138-kV transmission line, two wood, H-frame structures approximately 80 to 85 feet tall will be installed within a new 125-foot-wide right-of-way. A fiber optic cable also will be installed along the 138-kV transmission line. About 14 miles of new access roads will be constructed and about 2.4 miles of existing access roads will be improved or reconstructed. All mitigation measures identified in the EIS are adopted.

ADDRESSES: Copies of the ROD and EIS may be obtained by calling BPA's toll-free document request line, 1-800-622-4520. The ROD and EIS are also available on our Web site, http://efw.bpa.gov/environmental_services/Document_Library/HooperSprings/.

FOR FURTHER INFORMATION CONTACT: Tish Eaton, Bonneville Power Administration—KEC-4, P.O. Box 3621, Portland, Oregon 97208-3621; toll-free telephone number 1-800-622-4519; fax number 503-230-5699; or email tkeaton@bpa.gov.

Issued in Portland, Oregon on March 16, 2015.
Elliot E. Mainzer,
Administrator and Chief Executive Officer.

[FR Doc. 2015-07199 Filed 3-27-15; 8:45 am]

BILLING CODE 6450-01-P